DEPARTMENT OF COMMERCE

National Institute of Standards and Technology

Open Meeting of the Commission on Enhancing National Cybersecurity

AGENCY: National Institute of Standards and Technology, Commerce.

ACTION: Notice.

SUMMARY: The Commission on Enhancing National Cybersecurity will meet Tuesday, August 23, 2016, from 9:00 a.m. until 5:00 p.m. Central Time at the University of Minnesota's TCF Bank Stadium-DQ Club Room. The primary purpose of the meeting is to discuss the challenges and opportunities for organizations and consumers in securing the digital economy. In particular, the meeting will address: (1) Challenges confronting consumers in the digital economy; (2) innovation (Internet of Things, healthcare, and other areas); and (3) assured products and services. The meeting will support detailed recommendations to strengthen cybersecurity in both the public and private sectors while protecting privacy, ensuring public safety and economic and national security, fostering discovery and development of new technical solutions, and bolstering partnerships between Federal, State, local, tribal and territorial governments and the private sector in the development, promotion, and use of cybersecurity technologies, policies, and best practices. All sessions will be open to the public.

DATES: The meeting will be held on Tuesday, August 23, 2016, from 9:00 a.m. until 5:00 p.m. Central Time.

ADDRESSES: The meeting will be held at the University of Minnesota's TCF Bank Stadium-DQ Club Room, 3rd Level, located at 420 SE 23rd Avenue, Minneapolis, Minnesota 55455. The meeting is open to the public and interested parties are requested to contact Sara Kerman at the contact information indicated in the FOR FURTHER INFORMATION CONTACT section of this notice in advance of the meeting for building entrance requirements.

FOR FURTHER INFORMATION CONTACT: Sara Kerman, Information Technology Laboratory, National Institute of Standards and Technology, 100 Bureau Drive, Stop 2000, Gaithersburg, MD 20899-8900, telephone: 301-975-4634, or by email at: eo-commission@nist.gov. Please use subject line “Open Meeting of the Commission on Enhancing National Cybersecurity—MN”.

SUPPLEMENTARY INFORMATION: Pursuant to the Federal Advisory Committee Act, as amended, 5 U.S.C. App., notice is hereby given that the Commission on Enhancing National Cybersecurity (“the Commission”) will meet Tuesday, August 23, 2016, from 9:00 a.m. until 5:00 p.m. Central Time. All sessions will be open to the public. The Commission is authorized by Executive Order 13718, Commission on Enhancing National Cybersecurity.¹ The Commission was established by the President and will make detailed recommendations to strengthen cybersecurity in both the public and private sectors while protecting privacy, ensuring public safety and economic and national security, fostering discovery and development of new technical solutions, and bolstering partnerships between Federal, state, local, tribal and territorial governments and the private sector in the development, promotion, and use of cybersecurity technologies, policies, and best practices.

¹ https://www.federalregister.gov/articles/2016/02/12/2016-03038/commission-on-enhancing-national-cybersecurity.

The agenda is expected to include the following items:

—Introductions.

—Panel discussion on the challenges confronting the consumers in the digital economy.

—Panel discussion on innovation (Internet of Things, healthcare, and other areas).

—Panel discussion on assured products and services.

—Conclusion.

Note that agenda items may change without notice. The final agenda will be posted on http://www.nist.gov/cybercommission. Seating will be available for the public and media. No registration is required to attend this meeting; however, on-site attendees are asked to voluntarily sign in and space will be available on a first-come, first-served basis.

Public Participation: The Commission agenda will include a period of time, not to exceed fifteen minutes, for oral comments from the public on Tuesday, August 23, 2016, from 3:00 p.m. until 3:15 p.m. Central Time. Speakers will be selected on a first-come, first-served basis. Each speaker will be limited to five minutes. Questions from the public will not be considered during this period. Members of the public who are interested in speaking are requested to contact Sara Kerman at the contact information indicated in the FOR FURTHER INFORMATION CONTACT section of this notice.

Speakers who wish to expand upon their oral statements, those who had wished to speak but could not be accommodated on the agenda, and those who were unable to attend in person are invited to submit written statements. In addition, written statements are invited and may be submitted to the Commission at any time. All written statements should be directed to the Commission Executive Director, Information Technology Laboratory, 100 Bureau Drive, Stop 8900, National Institute of Standards and Technology, Gaithersburg, MD 20899-8900 or by email at: cybercommission@nist.gov. Please use subject line “Open Meeting of the Commission on Enhancing National Cybersecurity—MN”.

Kevin Kimball,
Chief of Staff.

[FR Doc. 2016-16742 Filed 7-14-16; 8:45 am]

BILLING CODE 3510-13-P